DEPARTMENT OF HEALTH AND HUMAN SERVICES

Centers for Medicare & Medicaid Services

[Document Identifiers CMS-10261, CMS-10398, CMS-359/360 and CMS-10706]

Agency Information Collection Activities: Proposed Collection; Comment Request

AGENCY: Centers for Medicare & Medicaid Services, HHS.

ACTION: Notice.

SUMMARY: The Centers for Medicare & Medicaid Services (CMS) is announcing an opportunity for the public to comment on CMS' intention to collect information from the public. Under the Paperwork Reduction Act of 1995 (the PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by August 21, 2020.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number__, Room C4-26-05, 7500 Security Boulevard, Baltimore, Maryland 21244-1850.

To obtain copies of a supporting statement and any related forms for the proposed collection(s) summarized in this notice, you may make your request using one of following:

1. Access CMS' website address at https://www.cms.gov/Regulations-and-Guidance/Legislation/PaperworkReductionActof1995/PRA-Listing.html.

2. Email your request, including your address, phone number, OMB number, and CMS document identifier, to Paperwork@cms.hhs.gov.

3. Call the Reports Clearance Office at (410) 786-1326.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10261 Part C Medicare Advantage Reporting Requirements and Supporting Regulations in 42 CFR 422.516(a)

CMS-10398 Generic Clearance for Medicaid and CHIP State Plan, Waiver, and Program Submissions

CMS-359/360 Comprehensive Outpatient Rehabilitation Facility (CORF) Certification and Survey Forms

CMS-10706 Generic Clearance for the Center for Clinical Standards and Quality IT Product and Support Teams

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collection

1. Type of Information Collection Request: Revision with change of a previously approved collection; Title: Part C Medicare Advantage Reporting Requirements and Supporting Regulations in 42 CFR 422.516(a); Use: Section 1852(m) of the Social Security Act (the Act) and CMS regulations at 42 CFR 422.135 allow Medicare Advantage (MA) plans the ability to provide “additional telehealth benefits” to enrollees starting in plan year 2020 and treat them as basic benefits. MA additional telehealth benefits are limited to services for which benefits are available under Medicare Part B but which are not payable under section 1834(m) of the Act. In addition, MA additional telehealth benefits are services that been identified by the MA plan for the applicable year as clinically appropriate to furnish through electronic information and telecommunications technology (or “electronic exchange”) when the physician (as defined in section 1861(r) of the Act) or practitioner (as defined in section 1842(b)(18)(C) of the Act) providing the service is not in the same location as the enrollee. Per § 422.135(d), MA plans may only furnish MA additional telehealth benefits using contracted providers.

The data collected in this measure will provide CMS with a better understanding of the number of organizations utilizing Telehealth per contract and to also capture those specialties used for both in-person and Telehealth. This data will allow CMS to improve its policy and process surrounding Telehealth. In addition, the specialist and facility data we are collecting aligns with some of the provider and facility specialty types that organizations are required to include in their networks and to submit on their HSD tables in the Network Management Module in Health Plan Management System. Form Number: CMS-10261 (OMB control number: (OMB 0938-1054); Frequency: Annual; Affected Public: Private Sector: Business or other for-profits; Number of Respondents: 681; Total Annual Responses: 5,448; Total Annual Hours: 205,662. (For policy questions regarding this collection contact Maria Sotirelis at 410- 786-0552.)

2. Type of Information Collection Request: Revision of a currently approved collection; Title of Information Collection: Generic Clearance for Medicaid and CHIP State Plan, Waiver, and Program Submissions; Use: State Medicaid and CHIP agencies are responsible for developing submissions to CMS, including state plan amendments and requests for waivers and program demonstrations. States use templates when they are available and submit the forms to review for consistency with statutory and regulatory requirements (or in the case of waivers and demonstrations whether the proposal is likely to promote the objectives of the Medicaid program). If the requirements are met, we approve the states' submissions giving them the authority to implement the flexibilities. For a state to receive Medicaid Title XIX funding, there must be an approved Title XIX state plan.

The development of streamlined submissions forms enhances the collaboration and partnership between states and CMS by documenting our policy for states to use as they are developing program changes. Streamlined forms improve efficiency of administration by creating a common and user-friendly understanding of the information we need to quickly process requests for state plan amendments, waivers, and demonstration, as well as ongoing reporting. Form Number: CMS-10398 (OMB control number: 0938-1148); Frequency: Collection-specific, but generally the frequency is yearly, once, and occasionally; Affected Public: State, Local, or Tribal Governments; Number of Respondents: 56; Total Responses: 1,540; Total Hours: 154,104 (3-year total). (For policy questions regarding this collection contact Annette Pearson at 410-786-6858.)

3. Type of Information Collection Request: Extension of a currently approved information collection; Title of Information Collection: Comprehensive Outpatient Rehabilitation Facility (CORF) Certification and Survey Forms; Use: The form CMS-359 is an application for health care providers that seek to participate in the Medicare program as a Comprehensive Outpatient Rehabilitation Facility (CORF). The form initiates the process for facilities to become certified as a CORF and it provides the CMS Location and State Survey Agency (SA) staff identifying information regarding the applicant that is stored in the Automated Survey Processing Environment (ASPEN) system.

The form CMS-360 is a survey tool used by the SAs to record information in order to determine a provider's compliance with the CORF Conditions of Participation (COPs) and to report this information to the Federal government. The form includes basic information on the COP requirements, check boxes to indicate the level of compliance, and a section for recording notes. CMS has the responsibility and authority for certification decisions which are based on provider compliance with the COPs and this form supports this process. Form Number: CMS-359/360 (OMB control number: 0938-0267); Frequency: Occasionally; Affected Public: Private Sector (Business or other for-profits); Number of Respondents: 49; Number of Responses: 8; Total Annual Hours: 74. (For questions regarding this collection contact Caroline Gallaher (410) 786-8705.)

4. Type of Information Collection Request: New collection (Request for a new OMB control number); Title of Information Collection: Generic Clearance for the Center for Clinical Standards and Quality IT Product and Support Teams; Use: The Health Information Technology for Economic and Clinical Health (HITECH) Act is part of the American Reinvestment and Recovery Act (ARRA) of 2009. As noted in the HITECH Act, CMS is responsible for defining “meaningful use” of certified electronic health record (EHR) technology and developing incentive payment programs for Medicare and Medicaid providers. CMS is continually implementing and updating information systems as legislation and requirements change. To support this initiative, CCSQ IT Product and Support Teams (CIPST) must have the capacity for engagement with users in an ongoing variety of research, discovery, and validation activities to create and refine systems that do not place an undue burden on users and instead are efficient, usable, and desirable.

The Center for Clinical Standards and Quality (CCSQ) is responsible for administering appropriate information systems so that the public can submit healthcare-related information. While beneficiaries ultimately benefit, the primary users of (CIPST) are healthcare facility employees and contractors. They are responsible for the collection and submission of appropriate beneficiary data to CMS to receive merit-based compensation.

The generic clearance will allow a rapid response to inform CMS initiatives using a mixture of qualitative and quantitative consumer research strategies (including formative research studies and methodological tests) to improve information systems that serve CMS audiences. CMS implements human-centered methods and activities for the improvement of policies, services, and products. As information systems and technologies are developed or improved upon, they can be tested and evaluated for end-user feedback regarding utility, usability, and desirability. The overall goal is to apply a human-centered engagement model to maximize the extent to which CMS CIPST product teams can gather ongoing feedback from consumers. Feedback helps engineers and designers arrive at better solutions, therefore minimizing the burden on consumers and meeting their needs and goals.

The activities under this clearance involve voluntary engagement with target CIPST users to receive design and research feedback. Voluntary end-users from samples of self-selected customers, as well as convenience samples, with respondents selected either to cover a broad range of customers or to include specific characteristics related to certain products or services. All collection of information under this clearance is for use in both quantitative and qualitative groups collecting data related to human-computer interactions with information system development. We will use the findings to create the highest possible public benefit. Form Number: CMS-10706 (OMB control number: 0938-NEW); Frequency: Occasionally; Affected Public: Individuals and Private Sector (Business or other for-profit and Not-for-profit institutions); Number of Respondents: 11,476; Total Annual Responses: 11,476; Total Annual Hours: 4,957. (For policy questions regarding this collection contact Stephanie Ray at 410-786-0971)

Dated: June 16, 2020.
William N. Parham, III,
Director, Paperwork Reduction Staff, Office of Strategic Operations and Regulatory Affairs.

[FR Doc. 2020-13298 Filed 6-19-20; 8:45 am]

BILLING CODE 4120-01-P